DEPARTMENT OF AGRICULTURE

Animal and Plant Health Inspection Service

[Docket No. APHIS-2011-0015]

Notice of Decision To Authorize the Importation of Garlic From the European Union and Other Countries

AGENCY: Animal and Plant Health Inspection Service, USDA.

ACTION: Notice.

SUMMARY: We are advising the public of our decision to authorize the importation into the continental United States of garlic from the European Union and other countries. Based on the findings of a commodity import evaluation document, which we made available to the public for review and comment through a previous notice, we believe that the application of one or more designated phytosanitary measures will be sufficient to mitigate the risks of introducing or disseminating plant pests or noxious weeds via the importation of garlic from the European Union and other countries.

DATES: Effective Date: July 27, 2011.

FOR FURTHER INFORMATION CONTACT: Mr. Tony Román, Import Specialist, Plant Protection and Quarantine, APHIS, 4700 River Road, Unit 133, Riverdale, MD 20737-1236; (301) 734-5820.

SUPPLEMENTARY INFORMATION:

Background

Under the regulations in “Subpart—Fruits and Vegetables” (7 CFR 319.56-1 through 319.56-50, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis (PRA), can be safely imported subject to one or more of the designated phytosanitary measures listed in paragraph (b) of that section. Under that process, APHIS publishes a notice in the Federal Register announcing the availability of the PRA that evaluates the risks associated with the importation of a particular fruit or vegetable. Following the close of the 60-day comment period, APHIS may authorize the importation of the fruit or vegetable subject to the identified designated measures if: (1) No comments were received on the PRA; (2) the comments on the PRA revealed that no changes to the PRA were necessary; or (3) changes to the PRA were made in response to public comments, but the changes did not affect the overall conclusions of the analysis and the Administrator's determination of risk.

In accordance with that process, we published a notice ¹ in the Federal Register on March 21, 2011 (76 FR 15279-15280, Docket No. APHIS-2011-0015), in which we announced the availability, for review and comment, of a commodity import evaluation document (CIED) that evaluates the risks associated with the importation into the continental United States of fresh garlic from the European Union (EU) and other countries. For the purposes of this document, the EU and other countries refers to Algeria, Armenia, Austria, Azerbaijan, Belarus, Bosnia and Herzegovina, Bulgaria, Croatia, Czech Republic, Egypt, Estonia, Georgia, Germany, Greece, Hungary, Israel, Kazakhstan, Kyrgyzstan, Latvia, Lebanon, Lithuania, the Republic of Macedonia, Moldova, Montenegro, Morocco, Palestine Authority, Portugal, Romania, Russian Federation, Serbia, Slovakia, Slovenia, Switzerland, Syria, Tajikistan, Turkey, Turkmenistan, Ukraine, and Uzbekistan.

¹ To view the notice, the CIED, and the comments we received, go to http://www.regulations.gov/fdmspublic/component/main?main=DocketDetail&d=APHIS-2011-0015.

These countries are currently authorized to export garlic (dry bulbs, no green leaves) to the United States only if the commodity undergoes vacuum fumigation for the weevil pests Brachycerus spp. and Dyspessa ulula.

Three countries, France, Italy, and Spain, are exempt from the required fumigation. Imports of garlic from France are allowed with a phytosanitary certificate (PC) containing an additional declaration that the garlic was inspected and found free from Brachycerus spp. and Dyspessa ulula. Similarly, the regulations in § 319.56-13 provide that imports of garlic from Italy and Spain are approved if the garlic is accompanied by a PC which contains an additional declaration that the garlic has been inspected by the national plant protection organization of the exporting country and found free of Brachycerus spp. and Dyspessa ulula, based on field inspection and reexamination at the port of export. Based on the evidence presented in the CIED, we determined that the measures currently in place for garlic imported from France, Italy, and Spain are adequate to manage pest risks associated with garlic from the EU and other countries.

We solicited comments on the notice for 60 days ending on May 20, 2011. We received three comments by that date. They were from an association of garlic producers, a State agricultural agency, and a governmental organization. One commenter was in favor of allowing the importation of garlic from the EU and other countries under the conditions described in the CIED. The remaining comments are discussed below.

Two commenters expressed concern that visual inspection and a phytosanitary certificate may not be sufficient to prevent the potential accidental introduction of the two weevils (Brachycerus spp. and Dyspessa ulula) into the United States. One of these commenters recommended the continued use of vacuum fumigation of garlic bulbs originating from countries where these weevils occur because larvae develop within garlic bulbs and could easily go undetected by visual inspection.

As mentioned in the CIED published with the previous notice, garlic infested with Brachycerus spp. or D. ulula is likely to be detected during inspection. Garlic heads infested with D. ulula have large internal cavities and darkened holes, often with secondary mold. The cloves may be completely eaten, leaving only the outer coverings of the garlic head with the larval excrements, and a strongly attacked batch of garlic can be detected by a weight shortage (between 40 percent and 80 percent of the normal weight).

Regarding the risk of introducing Brachycerus spp. via the importation of garlic, Brachycerus spp. are rarely intercepted even in passenger baggage, with only 16 interceptions from all countries, all sources, over a 27-year period. When they are present, adult females lay clusters of eggs in holes chewed in the garlic bulb. Brachycerus spp. larvae bore into the garlic bulb, leaving bulging lumps, holes, frass, and fungal decay, while mature larvae are often visible externally. Because Brachycerus spp. cause noticeable damage to the commodity, garlic bulbs infested with this pest would be culled during packing processes or identified during inspection by the NPPO in the originating country and, therefore, are unlikely to be included in shipments. The symptoms of Brachycerus spp. infestation can also be readily inspected for at the port of entry into the United States.

One commenter also stated that APHIS provided no technical or scientific reason to revise regulations and no underlying, scientific, or technical basis for the historical fumigation exemption for France, Italy, and Spain. The commenter noted that pests have been intercepted in shipments of fresh garlic from countries currently allowed to ship without fumigation and that removing the fumigation requirement because the interceptions have been infrequent is inappropriate.

Although we do not have the background for the exemptions afforded to these countries, we can conclude that the decision was based on a historical lack of pest detections. Garlic from Spain and Italy has been allowed entry into the United States without methyl bromide fumigation since at least 1972. Garlic from France has been imported under similar restrictions for some time as well. Although pests have been found on garlic imported from these countries, such interceptions have occurred very rarely and these pests have not been introduced into the United States since importation of garlic from these countries began. Our experience inspecting garlic from France, Italy, and Spain, as reflected in the pest interception data, suggests that visual inspection is sufficient to mitigate the risks of introducing or disseminating plant pests or noxious weeds via the importation of garlic into the continental United States.

For these reasons, APHIS has concluded that commercial garlic for export from the EU and other countries is unlikely to contain the identified quarantine pests and any pests associated with this commodity would be detected by inspection. Accordingly, we have determined that no changes to the CIED are necessary based on these comments.

Therefore, in accordance with the regulations in § 319.56-4(c)(2)(ii), we are announcing our decision to authorize the importation into the continental United States of fresh garlic from the European Union and other countries subject to the following phytosanitary measures:

• The garlic must be accompanied by a phytosanitary certificate with an additional declaration attesting freedom from Brachycerus spp. and Dyspessa ulula.

• The garlic may be imported into the continental United States in commercial consignments only.

These conditions will be listed in the Fruits and Vegetables Import Requirements database (available at http://www.aphis.usda.gov/favir). In addition to these specific measures, garlic from the European Union and other countries will be subject to the general requirements listed in § 319.56-3 that are applicable to the importation of all fruits and vegetables.

Authority: 7 U.S.C. 450, 7701-7772, and 7781-7786; 21 U.S.C. 136 and 136a; 7 CFR 2.22, 2.80, and 371.3.

Done in Washington, DC, this 22nd day of July 2011.
Kevin Shea,
Acting Administrator, Animal and Plant Health Inspection Service.

[FR Doc. 2011-19036 Filed 7-26-11; 8:45 am]

BILLING CODE 3410-34-P